DEPARTMENT OF ENERGY

Notice of Orders Issued Under Section 3 of the Natural Gas Act During December 2018

| FE Docket Nos.
MAG ENERGY SOLUTIONS INC | 18-177-NG
ARIZONA PUBLIC SERVICE COMPANY | 18-179-NG
DOMINION ENERGY COVE POINT LNG, LP | 18-180-LNG
EAP OHIO, LLC | 18-181-NG
MEXICO PACIFIC LIMITED LLC | 18-70-LNG
FORTISBC ENERGY INC | 18-183-NG
SPRAGUE OPERATING RESOURCES LLC | 18-184-NG; 16-177-NG
REPSOL OIL & GAS USA, LLC | 18-178-LNG
SPRAGUE OPERATING RESOURCES LLC | 18-140-NG
HARTREE PARTNERS, LP | 18-185-NG
DISTRIBUTED GAS SOLUTIONS CANADA | 18-188-LNG
AMERICAN LP CO d/b/a AMERICAN LIGHT & POWER | 18-187-LNG

AGENCY: Office of Fossil Energy, Department of Energy.

ACTION: Notice of orders.

SUMMARY: The Office of Fossil Energy (FE) of the Department of Energy gives notice that during December 2018, it issued orders granting authority to import and export natural gas, to import and export liquefied natural gas (LNG), vacating prior authorization and an errata. These orders are summarized in the attached appendix and may be found on the FE website at https://www.energy.gov/fe/listing-doefe-authorizationsorders-issued-2018-0.

They are also available for inspection and copying in the U.S. Department of Energy (FE-34), Division of Natural Gas Regulation, Office of Regulation, Analysis, and Engagement, Office of Fossil Energy, Docket Room 3E-033, Forrestal Building, 1000 Independence Avenue SW, Washington, DC 20585, (202) 586-9478. The Docket Room is open between the hours of 8:00 a.m. and 4:30 p.m., Monday through Friday, except Federal holidays.

Issued in Washington, DC, on January 28, 2019.
Amy Sweeney,
Director, Division of Natural Gas Regulation.

Appendix

DOE/FE Orders Granting Import/Export Authorizations
4316 | 12/03/18 | 18-177-NG | MAG Energy Solutions Inc | Order 4316 granting blanket authority to import/export natural gas from/to Canada.
4319 | 12/11/18 | 18-179-NG | Arizona Public Service Company | Order 4319 granting blanket authority to import/export natural gas from/to Mexico.
4320 | 12/11/18 | 18-180-LNG | Dominion Energy Cove Point LNG, LP | Order 4320 granting blanket authority to import LNG from various international sources by vessel.
4321 | 12/11/18 | 18-181-NG | EAP Ohio, LLC | Order 4321 granting blanket authority to import/export natural gas from/to Canada.
4312 | 12/14/18 | 18-70-LNG | Mexico Pacific Limited LLC | Opinion and Order 4314 granting Long-term, Multi-contract authority to export U.S.-sourced natural gas by pipeline to Mexico for liquefaction and re-export in the form of LNG to Non-free Trade Agreement Nations.
4323 | 12/20/18 | 18-183-NG | FortisBC Energy Inc | Order 4323 granting blanket authority to import/export natural gas from/to Canada.
4324; 3954-A | 12/20/18 | 18-184-NG; 16-177-NG | Sprague Operating Resources LLC | Order 4324 granting blanket authority to import natural gas from Canada, and Order 3854-A vacating prior authority.
Errata | 12/20/18 | 18-178-LNG | Repsol Oil & Gas USA, LLC | Errata Order 4314.
4286-A | 12/20/18 | 18-140-NG | Sprague Operating Resources LLC | Order 4286-A vacating blanket authority to import natural gas from Canada.
4325 | 12/21/18 | 18-185-NG | Hartree Partners, LP | Order 4325 granting blanket authority to import/export natural gas from/to Canada.
4326 | 12/21/18 | 18-188-LNG | Distributed Gas Solutions Canada | Order 4326 granting blanket authority to export LNG to Canada by vessel.
4327 | 12/31/18 | 18-187-LNG | American LP Co d/b/a American Light & Power | Order 4327 granting blanket authority to import/export natural gas from/to Mexico.

[FR Doc. 2019-00660 Filed 1-31-19; 8:45 am]

BILLING CODE 6450-01-P